DEPARTMENT OF AGRICULTURE

Forest Service

Notice of Proposed New Fee Sites

AGENCY: Bighorn National Forest, Forest Service, USDA.

ACTION: Notice of Proposed New Fee Sites.

SUMMARY: The Bighorn National Forest is proposing to charge new fees at two recreation rental sites under the Federal Lands Recreation Enhancement Act, (Title VIII, Pub. L. 108-447). Fees are assessed based on the level of amenities and services provided, costs of operation and maintenance, market assessment, and public comment. Funds from the fees will be retained locally and used for the operation and maintenance of these recreation sites.

The Sheep Mountain Fire Lookout on the Powder River Ranger District will be available for overnight rental. The facility is located approximately 25 miles southwest of Buffalo, Wyoming, at the end of Forest Road 28. The lookout offers an extraordinary experience in a historical structure. Renting a historical lookout is widely popular on national forests. The fee proposed for this facility is $50 per night. The lookout can accommodate two to four people. A single vault toilet will be available nearby; water and electricity are not available. This facility will be available from approximately Memorial Day to the end of October, weather permitting.

The Powder River Ranger District is also proposing rental of the Pole Creek cabin, located off Forest Road 456. The cabin is located along both a winter snowmobile trail and a trail within the Pole Creek Cross Country Ski Area. The cabin can accommodate up to four people; water and electricity are not available. A single vault toilet is located nearby. The proposed fee for this site is $35 per night. The Pole Creek Cabin will be available all year.

An analysis of nearby private cabins and recreation rental facilities with similar amenities indicates that the proposed fees are comparable with similar sites in the area.

DATES: Send any comments about these fee proposals by August 1, 2013, so comments can be compiled, analyzed, and shared with a Recreation Resource Advisory Committee. New fees would begin in late summer 2013.

ADDRESSES: Comments should be sent by regular mail to Bill Bass, forest supervisor, 2013 Eastside 2nd Street, Sheridan, WY 82801 or by email to comments-Bighorn@fs.fed.us.

FOR FURTHER INFORMATION CONTACT: Questions about the proposal should be addressed to Brian Boden, natural resource specialist, Powder River Ranger District, 1415 Fort Street, Buffalo, WY 82834, bboden@fs.fed.us, or 307.684.7806. Information about the proposed fee sites can also be found on the Bighorn National Forest Web site at www.fs.usda.gov/bighorn/.

SUPPLEMENTARY INFORMATION: The Federal Recreation Lands Enhancement Act (Title VII, Pub. L. 108-447) directed the Secretary of Agriculture to publish a six month advance notice in the Federal Register whenever new recreation fee areas are established.

This new fee will be reviewed by a Recreation Resource Advisory Committee prior to a final decision and implementation.

People wanting to rent Pole Creek Cabin or Sheep Mountain Lookout would do so through the National Recreation Reservation Service at www.recreation.gov or by calling 877.444.6777, when the facilities become available. The National Recreation Reservation Service charges a $9 fee for reservations.

Dated: January 31, 2013.
William T Bass,
Forest supervisor.

[FR Doc. 2013-02577 Filed 2-6-13; 8:45 am]

BILLING CODE 3410-11-M